DEPARTMENT OF AGRICULTURE

Forest Service

Southwest Montana Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Beaverhead-Deerlodge National Forest's Southwest Montana Resource Advisory Committee will meet on Wednesday, June 15, 2011, from 10 a.m. until 5 p.m., in Dillon, Montana. The purpose of the meeting is to review funding proposals for Title II funding.

DATES: Wednesday, June 15, 2011, from 10 a.m. until 5 p.m.

ADDRESSES: The meeting will be held at the Beaverhead-Deerlodge Forest Headquarters located at 420 Barrett Street, Dillon, Montana (MT 59725).

FOR FURTHER INFORMATION CONTACT: Patty Bates, Committee Coordinator, Beaverhead-Deerlodge National Forest, 420 Barrett Street, Dillon, MT 59725 (406) 683-3979; e-mail pbates@fs.fed.us.

SUPPLEMENTARY INFORMATION: Agenda for this meeting includes discussion about new project proposals seeking funding. The meeting is open to the public. Public input opportunity will be provided and individuals will have the opportunity to address the Committee throughout the meeting.

Dated: May 13, 2011.
David R. Myers,
Designated Federal Official.

[FR Doc. 2011-12421 Filed 5-20-11; 8:45 am]

BILLING CODE 3410-11-M